DEPARTMENT OF AGRICULTURE

Natural Resources Conservation Service

[Docket No. NRCS-2020-0006]

Notice of Intent To Prepare an Environmental Impact Statement for the West Fork Kickapoo Watershed, Monroe and Vernon Counties, Wisconsin

AGENCY: Natural Resources Conservation Service, USDA.

ACTION: Notice of intent to prepare an Environmental Impact Statement (EIS).

SUMMARY: The Natural Resources Conservation Service (NRCS) Wisconsin State Office announces its intent to prepare an EIS for the West Fork Kickapoo Watershed Project in the proximity of Cashton, Westby, Viroqua, and Liberty, Wisconsin. NRCS is requesting comments to identify significant issues and alternatives to be addressed in the EIS from all interested individuals. The EIS process will examine existing flood control measures and evaluate additional (new) alternatives identified during scoping.

DATES: We will consider comments that we receive by April 23, 2021. Comments received after this date will be considered to the extent possible.

ADDRESSES: We invite you to submit comments in response to this notice. You may submit your comments through one of the methods below:

• Federal eRulemaking Portal: Go to http://www.regulations.gov and search for docket ID NRCS-2020-0006. Follow the online instructions for submitting comments; or

• Mail or Hand Delivery: Keri Hill, Project Manager, Sundance Consulting, Inc., 305 N 3rd Ave., Ste. B, Pocatello, ID 83201.

For written comments that are submitted via mail, specify the docket ID NRCS-2020-0006. All comments received will be posted without change and publicly available on www.regulation.gov.

FOR FURTHER INFORMATION CONTACT: Angela Biggs, telephone: 608-662-4422; email: angela.biggs@usda.gov. In addition, for questions related to submitting comments via Sundance Hill Consulting: Kari Hill at 202-274-9004, Fax (208) 478-2032, khill@sundance-inc.net, or the project website at: www.wfkandccwatershed.com. Persons with disabilities who require alternative means for communication should contact the U.S. Department of Agriculture (USDA) Target Center at (202) 720-2600 (voice).

SUPPLEMENTARY INFORMATION:

Purpose and Need

The primary purpose for watershed planning and preparation of an EIS is flood prevention and flood damage reduction in the West Fork Kickapoo Valley. Watershed planning was authorized under Public Law 83-566, the Watershed Protection and Flood Prevention Act of 1954, as amended, and Public Law 78-534, the Flood Control Act of 1944.

This proposed action is prepared under the authority of the Watershed Prevention and Flood Protection Act (Pub. L. 83-566). This action is needed because two flood control dams failed, and two additional dams over-topped during an 11-inch rainstorm on August 27-28, 2018. These dams are critical to prevent future flood damages and loss of life.

Initial agency scoping of this federally assisted action indicates that proposed alternatives may have significant local, regional, or national impacts on the environment. Angela Biggs, State Conservationist, has determined that the preparation of an EIS is needed. This EIS will be prepared as required by section 102(2)(C) of the National Environmental Policy Act of 1969 (NEPA); the Council on Environmental Quality Regulations (40 CFR parts 1500-1508); and NRCS regulations that implement NEPA in 7 CFR part 650.

Description

A watershed project plan was developed in 1961 to reduce flood damages in the West Fork Kickapoo Valley. Major problems in the watershed were floodwater damages to crops and pasture, fences, farmsteads, machinery, buildings, livestock, county and township roads and bridges, and urban areas in the Town of Liberty. Nine flood control dams and a multitude of land treatment measures were implemented between 1956 and 1971 under the Watershed Protection and Flood Prevention Act of 1954, as amended in 1956.

On the night of August 27, 2018, two dams over-topped and two dams failed as a result of rainfall amounts up to 11 inches over a 6-hour period. The dams breached along the interface between the earthfill and bedrock abutments. Each breach extended full depth to the valley floor. No one was injured or killed. Large debris fields were observed downstream of the dams for about ¼ mile. An unoccupied house was moved off its foundation. Agricultural lands and road crossings were damaged. The Sponsors and NRCS are concerned about the commonality in breach descriptions. The consensus is that flow through the foundations during high pool stage contributed to the failures. A similar vulnerability may exist in the remaining seven dams.

NRCS is proposing to develop a Watershed Project Plan (Planning-EIS) to evaluate alternatives to reduce flood damage in the West Fork Kickapoo valley including analysis of the flood control structures and the watershed. Watershed planning under the EIS will evaluate the effectiveness, environmental effects, and socio-economic impacts of the original project measures over the last 64 years. The results of these analyses will provide the context for determining the environmental, economic, and social effects of considered alternatives for additional (new) flood prevention or flood damage reduction measures. Potential impacts (beneficial and adverse) related to the project include modifications to ecological habitat, fish and wildlife resources, downstream effects, flood control capability, floodplain alteration, safety and engineering improvements, cultural resources, environmental justice, and recreation. An in-depth analysis of impacts will be evaluated for each alternative in the draft Planning-EIS. The focused planning area is 63,761 acres (99.6 square miles).

Scoping Process

Two scoping meetings will be held to present the project and develop the scope of the draft EIS. The first meeting was Wednesday, September 16, 2020 at the Cashton Community Hall. Comments received, including the names and addresses of those who comment, will be part of the public record. Scoping meeting presentation materials will be available on the project website when this notice is published: www.wfkandccwatershed.com. The date, time, and location for the second meeting will be announced on the project website.

Alternatives

The objective of the EIS is to formulate and evaluate alternatives for flood prevention or flood damage reduction in the West Fork Kickapoo Valley through the Town of Liberty. Alternatives to be evaluated include the repair, replacement, relocation, or removal of the two failed dams, final disposition of future dams that fail or require major rehabilitation, upland watershed treatments to reduce runoff, and land use changes in the floodplain.

Implementation of the proposed federal action would require a Clean Water Act (CWA) Section 404 permit from the US Army Corps of Engineers. The project would also require water quality certification under Section 401 of the CWA. Permitting under Section 402 of the CWA (National Pollutant Discharge Elimination System Permit) may be required. Local dam safety and floodplain permits may be required dependent upon the selected alternative. A draft EIS will be prepared and circulated for review and comment by agencies and the public per 40 CFR 1503.1, 1502.20, 1506.11, 1502.17, and 7 CFR 650.13. The draft EIS is estimated to be complete and available for public review in 2021. NRCS invites agencies and individuals who have special expertise, legal jurisdiction, or interest in the West Fork Kickapoo Watershed to participate and identify potential alternatives.

Federal Assistance Programs

The title and number of the Federal assistance program in the Catalog of Federal Domestic Assistance to which this NOFA applies: 10.904 Watershed Protection and Flood Prevention and is subject to the provisions of Executive Order 12372, which requires intergovernmental consultation with State and local officials.

Angela Biggs,
Wisconsin State Conservationist, Natural Resources Conservation Service.

[FR Doc. 2021-06049 Filed 3-23-21; 8:45 am]

BILLING CODE 3410-16-P